DEPARTMENT OF VETERANS AFFAIRS

[OMB Control No. 2900-0038]

Agency Information Collection Activity: Information From Remarried Widow/er

AGENCY: Veterans Benefits Administration, Department of Veterans Affairs.

ACTION: Notice.

SUMMARY: Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before October 16, 2017.

ADDRESSES: Submit written comments on the collection of information through Federal Docket Management System (FDMS) at www.Regulations.gov or to Nancy Kessinger, Veterans Benefits Administration, Department of Veterans Affairs, 810 Vermont Avenue NW., Washington, DC 20420 or email to nancy.kessinger@va.gov. Please refer to “OMB Control No. 2900-0038” in any correspondence. During the comment period, comments may be viewed online through FDMS.

FOR FURTHER INFORMATION CONTACT: Nancy J. Kessinger at (202) 632-8924 or fax (202) 632-8925.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 1542.

Title: Information from Remarried Widow/er (VA Form 21P-4103).

OMB Control Number: 2900-0038.

Type of Review: Revision of a Currently Approved Collection.

Abstract: 38 U.S.C. 1542 authorizes VA to pay Pension benefits to the surviving dependent children of a deceased Veteran if said children are not in the custody of a surviving spouse eligible for Pension benefits under 38 U.S.C. 1541, subject to certain annual income limitations, as well as net worth limitations set forth in 38 U.S.C. 1543. 38 U.S.C. 1503 governs determinations with respect to annual income under 38 U.S.C. Chapter 15.

VBA uses VA Form 21P-4103 to collect the income and net worth information necessary to determine the eligibility to Pension benefits of the surviving dependent children of a deceased Veteran after an eligible surviving spouse remarries, which terminates the surviving spouse's eligibility to benefits. VBA uses the information to determine eligibility to, and the amount of, any monetary benefits due to the surviving dependent children of the deceased Veteran.

Affected Public: Individuals and households.

Estimated Annual Burden: 333 hours.

Estimated Average Burden per Respondent: 20 minutes.

Frequency of Response: Once.

Estimated Number of Respondents: 1,000.

By direction of the Secretary.
Cynthia Harvey-Pryor,
Department Clearance Officer, Office of Quality and Compliance, Department of Veterans Affairs.

[FR Doc. 2017-17180 Filed 8-14-17; 8:45 am]

BILLING CODE 8320-01-P